INTERNATIONAL TRADE COMMISSION

[Investigation No. 731-TA-1110 (Final)]

Sodium Hexametaphosphate From China

Determination

On the basis of the record ¹ developed in the subject investigation, the United States International Trade Commission (Commission) determines, pursuant to section 735(b) of the Tariff Act of 1930 (19 U.S.C. 1673d(b)) (the Act), that an industry in the United States is materially injured by reason of imports from China of sodium hexametaphosphate, provided for in subheadings 2835.39.50 and 3824.90.39 of the Harmonized Tariff Schedule of the United States, that have been found by the Department of Commerce (Commerce) to be sold in the United States at less than fair value (LTFV).²

¹ The record is defined in sec. 207.2(f) of the Commission's Rules of Practice and Procedure (19 CFR § 207.2(f)).

² Commissioner Dean A. Pinkert did not participate in this investigation.

Background

The Commission instituted this investigation effective February 8, 2007, following receipt of a petition filed with the Commission and Commerce by ICL Performance Products, LP, St. Louis, MO, and Innophos, Inc., Cranbury, NJ. The final phase of the investigation was scheduled by the Commission following notification of a preliminary determination by Commerce that imports of sodium hexametaphosphate from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of October 31, 2007 (72 FR 61677). The hearing was held in Washington, DC, on January 24, 2008, and all persons who requested the opportunity were permitted to appear in person or by counsel.

The Commission transmitted its determination in this investigation to the Secretary of Commerce on March 12, 2008. The views of the Commission are contained in USITC Publication 3984 (March 2008), entitled Sodium Hexametaphosphate from China: Investigation No. 731-TA-1110 (Final).

By order of the Commission.
Issued: March 12, 2008.
Marilyn R. Abbott,
Secretary to the Commission.

[FR Doc. E8-5392 Filed 3-17-08; 8:45 am]

BILLING CODE 7020-02-P